DEPARTMENT OF LABOR

Employment and Training Administration

[TA-W-39,417]

Innovex, Inc., Chandler, Arizona; Notice of Negative Determination Regarding Application for Reconsideration

By application of December 19, 2001, petitioners requested administrative reconsideration of the Department's negative determination regarding eligibility for workers and former workers of the subject firm to apply for Trade Adjustment Assistance (TAA). The denial notice applicable to workers of Innovex, Inc., Chandler, Arizona was issued on November 27, 2001, and was published in the Federal Register on December 18, 2001 (66 FR 65220).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The investigation findings revealed that criterion (3) of the group eligibility requirements of Section 222 of the Trade Act of 1974 was not met. Increased imports of articles like or directly competitive with articles produced by the firm did not contribute importantly to worker separations at the subject firm.

The request for reconsideration claims that the company imported products like or directly competitive with what the subject plant produced, due to a partial shift in plant production to a foreign source. The petitioner provided a list of the subject plant's customers that they believe are now receiving these products for foreign sources.

A review of data supplied during the initial investigation and clarification provided by the company shows that over three-quarters of plant production of flexible circuits was shifted to other domestic locations. The remaining production was shifted to Thailand. The production performed in Thailand is then distributed to countries all over the world. The amount of flexible circuits shipped from Thailand to the firm's customers located in the United States is negligible in relation to the production that was performed at the subject plant.

Conclusion

After review of the application and investigative findings, I conclude that there has been no error or misinterpretation of the law or of the facts which would justify reconsideration of the Department of Labor's prior decision. Accordingly, the application is denied.

Signed at Washington, DC, this 19th day of March 2002.
Edward A. Tomchick,
Director, Division of Trade Adjustment Assistance.

[FR Doc. 02-9345 Filed 4-16-02; 8:45 am]

BILLING CODE 4510-30-M